DEPARTMENT OF TRANSPORTATION

Federal Railroad Administration

[Docket Number FRA-2013-0077]

Notice of Petition for Extension of Waiver of Compliance

AGENCY: Federal Railroad Administration (FRA), Department of Transportation (DOT).

ACTION: Notice.

SUMMARY: This document provides the public notice that by letter dated December 26, 2024, the Association of American Railroads (AAR) petitioned FRA for an extension of relief from certain regulations concerning rail cars equipped with end of car cushioning units.

DATES: FRA must receive comments on the petition by April 2, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Leith Al-Nazer, Railroad Safety Specialist, FRA Motive Power & Equipment Division, telephone: 202-493-6128, email: leith.al-nazer@dot.gov.

SUPPLEMENTARY INFORMATION: Under part 211 of title 49 Code of Federal Regulations (CFR), this document provides the public notice that by letter dated December 26, 2024, AAR petitioned FRA for an extension of a waiver of compliance from certain provisions of the Federal railroad safety regulations contained at 49 CFR part 215, Railroad Freight Car Safety Standards. The relevant Docket Number is FRA-2013-0077.

Specifically, AAR seeks an extension of relief from § 215.127(c)(1), Defective draft arrangement, which specifies that a railroad may not place or continue in service a car if an end of car cushioning unit is leaking clearly formed droplets. AAR proposes to keep a car in service “if the unit is equipped with a [unit condition indicator] that indicates that the cushioning unit is functioning.”

In support of its request, AAR states that the waiver has protected railroad employees “from needless exposure to switching hazards related to jacking freight cars and removing and replacing heavy cushion units because railroads have been able to leave fully functioning cushioning units in place.” Further, AAR notes that the relief has “allowed the industry to avoid unnecessary repairs” due to the current regulatory requirements. The petition also included data from AAR's performance assessments of units identified as defective by a unit condition indicator.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by April 2, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-03363 Filed 2-28-25; 8:45 am]

BILLING CODE 4910-06-P